DEPARTMENT OF COMMERCE

International Trade Administration

[A-570-890]

Wooden Bedroom Furniture from the People's Republic of China: Notice of Extension of Time Limit for Final Results of New Shipper Reviews

AGENCY: Import Administration, International Trade Administration, Department of Commerce.

EFFECTIVE DATE: August 29, 2008.

FOR FURTHER INFORMATION CONTACT: Paul Stolz, AD/CVD Operations, Office 8, Import Administration, International Trade Administration, U.S. Department of Commerce, 14th Street and Constitution Avenue, NW, Washington, DC 20230; telephone: (202) 482-4474.

SUPPLEMENTARY INFORMATION:

Background

On June 6, 2008, the Department of Commerce (“the Department”) published the preliminary results of the new shipper reviews of the antidumping duty order on wooden bedroom furniture from the People's Republic of China, covering the period January 1, 2007, through July 1, 2007, and the following exporters: Dongguan Mu Si Furniture Co., Ltd. (“Mu Si”) and Dongguan Bon Ten Furniture Co., Ltd. See Wooden Bedroom Furniture from the People's Republic of China: Preliminary Results of January 1, 2007 July 1, 2007 Semi-Annual New Shipper Reviews, 73 FR 32292 (June 6, 2008) (“Preliminary Results”). The final results are currently due on August 25, 2008.

Extension of Time Limits for Final Results

Section 751(a)(2)(B)(iv) of the Tariff Act of 1930, as amended (“the Act”), and 19 CFR 351.214(i)(1) require the Department to issue the final results of a new shipper review within 90 days after the date on which the preliminary results were issued. The Department may, however, extend the 90-day period for completion of the final results of a new shipper review to 150 days if it determines that the case is extraordinarily complicated. See section 751(a)(2)(B)(iv) of the Act and 19 CFR 351.214(i)(2).

As a result of issues raised in these new shipper reviews, specifically Mu Si and Petitioners have raised multiple issues with regard to certain consumption factor(s), average unit values of certain surrogate values, and conversion factors in their respective case briefs, the Department determines that these new shipper reviews are extraordinarily complicated and it cannot complete these new shipper reviews within the current time limit. Accordingly, the Department is extending the time limit for the completion of the final results by 60 days until October 24, 2008, in accordance with section 751(a)(2)(B)(iv) of the Act and 19 CFR 351.214(i)(2).

We are issuing and publishing this notice in accordance with section 751(2)(B) and 777(i)(1) of the Act.

Dated: August 22, 2008.
Edward C. Yang,
Acting Deputy Assistant Secretary for Import Administration.

[FR Doc. E8-20157 Filed 8-28-08; 8:45 am]

BILLING CODE 3510-DS-S